DEPARTMENT OF TRANSPORTATION

Federal Railroad Administration

Notice of Application for Approval of Discontinuance or Modification of a Railroad Signal System or Relief From the Requirements of Title 49 Code of Federal Regulations Part 236

Pursuant to title 49 Code of Federal Regulations (CFR) part 235 and 49 U.S.C. 20502(a), the following railroads have petitioned the Federal Railroad Administration (FRA) seeking approval for the discontinuance or modification of the signal system or relief from the requirements of 49 CFR part 236 as detailed below.

[Docket No. FRA-2000-6889]

Applicant: Union Pacific Railroad Company, Mr. Phil Abaray, Chief Engineer—Signals, 1416 Dodge Street, Room 1000, Omaha, Nebraska 68179-1000

Union Pacific Railroad Company seeks approval of the proposed modification of the traffic control system, on two main and running tracks, between milepost 3.6 and milepost 4.0, in Omaha, Nebraska, consisting of the the following:

1. Removal of the power-operated crossover at milepost 3.6, between Main Tracks No. 1 and No. 2;

2. Conversion of the power-operated crossover at milepost 3.9, between Main Track No. 1 and the North Running Track, to hand operation, equipped with an electric switch lock for the main track;

3. Removal of the power-operated derail on the North Running Track near milepost 3.9; and

4. Discontinuance and removal of eastbound controlled signals No's 112, 124, 126, 132, and 142, and westbound controlled signals No's 130, 136, 144, and 146.

The reason given for the proposed changes is that due to changes in operation the power crossovers are no longer used, and their associated signals are no longer needed; the proposed changes will increase efficiency and improve train handling by increasing block lengths.

Any interested party desiring to protest the granting of an application shall set forth specifically the grounds upon which the protest is made, and contain a concise statement of the interest of the Protestant in the proceeding. Additionally, one copy of the protest shall be furnished to the applicant at the address listed above.

All communications concerning this proceeding should be identified by the docket number and must be submitted to the Docket Clerk, DOT Central Docket Management Facility, Room PI-401, Washington, D.C. 20590-0001. Communications received within 45 days of the date of this notice will be considered by the FRA before final action is taken. Comments received after that date will be considered as far as practicable. All written communications concerning these proceedings are available for examination during regular business hours (9 a.m.-5 p.m.) at DOT Central Docket Management Facility, Room PI-401 (Plaza Level), 400 Seventh Street, SW, Washington, DC 20590-0001. All documents in the public docket are also available for inspection and copying on the internet at the docket facility's Web site at http://dms.dot.gov.

FRA expects to be able to determine these matters without an oral hearing. However, if a specific request for an oral hearing is accompanied by a showing that the party is unable to adequately present his or her position by written statements, an application may be set for public hearing.

Issued in Washington, DC on May 25, 2000.
Grady C. Cothen, Jr.,
Deputy Associate Administrator for Safety Standards and Program Development.

[FR Doc. 00-14051 Filed 6-1-00; 8:45 am]

BILLING CODE 4910-06-P